DEPARTMENT OF DEFENSE

Office of the Secretary

[Transmittal No. 24-0I]

Arms Sales Notification

AGENCY: Defense Security Cooperation Agency, Department of Defense (DoD).

ACTION: Arms sales notice.

SUMMARY: The DoD is publishing the unclassified text of an arms sales notification.

FOR FURTHER INFORMATION CONTACT: Urooj Zahra at (703) 695-6233, urooj.zahra.civ@mail.mil, or dsca.ncr.rsrcmgmt.list.cns-mbx@mail.mil.

SUPPLEMENTARY INFORMATION: This 36(b)(5)(C) arms sales notification is published to fulfill the requirements of section 155 of Public Law 104-164 dated July 21, 1996. The following is a copy of a letter to the Speaker of the House of Representatives with attached Transmittal 24-0I.

Dated: November 13, 2025.
Aaron T. Siegel,
Alternate OSD Federal Register Liaison Officer, Department of Defense.

BILLING CODE 6001-FR-P

BILLING CODE 6001-FR-C

Transmittal No. 24-0I

REPORT OF ENHANCEMENT OR UPGRADE OF SENSITIVITY OF TECHNOLOGY OR CAPABILITY (SEC. 36(b)(5)(C), AECA)

(i) Purchaser: Government of Qatar

(ii) Sec. 36(b)(1), AECA Transmittal No.: 17-41

Date: March 07, 2018

Implementing Agency: Air Force

Funding Source: National Funds

(iii) Description: On March 07, 2018, Congress was notified by congressional certification transmittal number 17-41 of the possible sale, under Section 36(b)(1) of the Arms Export Control Act, of equipment and support to upgrade the Qatar Emiri Air Force's (QEAF) Air Operations Center (AOC), to include Link-16 network and classified networks integration, to enhance the performance of integrated air defense planning and provide US-Qatari systems interoperability. This sale was comprised of one (1) Multifunctional Information Distribution System (MIDS) Low Volume Terminal (LVT), Global Positioning System (GPS) Selective Availability AntiSpoofing Module (SAASM) Chips, Simple Key Loaders (SKL), High Assurance internet Protocol Encryptors (HAIPE), Ground Support System (GSS) components for Link-16, as well as the necessary infrastructure construction, integration, installation, and sustainment services, cybersecurity services, technical and support facilities, COMSEC support, secure communications equipment, encryption devices, software development, spare and repair parts, support and test equipment, publications and technical documentation, security certification and accreditation, personnel training and training equipment, U.S. Government and contractor engineering, technical and logistics support services; and other related elements of logistical and program support. The estimated total cost was $197 million. Major Defense Equipment (MDE) constituted $1 million of this total.

This transmittal notifies inclusion of the following additional non-MDE items: Air Operations Center upgrade; spare and repair parts, consumables and accessories, and repair and return support; software delivery and support; minor modifications, maintenance, and maintenance support; facilities and construction support; publications and technical documentation; personnel training and training equipment; warranties; studies and surveys; transportation; U.S. Government and contractor engineering, technical, and logistics support services; and other related elements of logistics and program support. The estimated total value of the new non-MDE items is $424 million. The estimated total case value will increase to $621 million.

(iv) Significance: The proposed sale will significantly improve Qatar's defense capabilities to meet current and future threats and deter regional aggression. The inclusion of these items represents an increase in capability over what was originally notified.

(v) Justification: This proposed sale will support the foreign policy and national security objectives of the United States by helping to improve the security of a friendly country that continues to be an important force for political stability and economic progress in the Middle East.

(vi) Sensitivity of Technology: The Sensitivity of Technology Statement contained in the original notification applies to items reported here.

(vii) Date Report Delivered to Congress: September 24, 2024

[FR Doc. 2025-20034 Filed 11-17-25; 8:45 am]

BILLING CODE 6001-FR-P